DEPARTMENT OF HEALTH AND HUMAN SERVICES

Centers for Disease Control and Prevention

[Request for Application (RFA) AA051]

Program To Reduce the Impact of HIV/AIDS Within the Correctional Services System of South Africa; Notice of Intent To Fund Single Eligibility Award

A. Purpose

The Centers for Disease Control and Prevention (CDC) announces the intent to award fiscal year (FY) 2005 funds for a cooperative agreement program. The purpose of the program is to continue and expand the HIV/AIDS prevention, care and support services currently available to prisoners and staff in the correctional centers in all nine provinces of South Africa. The program will focus on the following key areas: Prevention, care and support, capacity building, policy implementation, and monitoring and evaluation.

The Catalog of Federal Domestic Assistance number for this program is 93.067.

B. Eligible Applicant

Assistance will be provided only to the South Africa DCS. No other applications are solicited.

The South Africa DCS is the only appropriate and qualified organization to conduct a specific set of activities supportive of the CDC GAP's technical assistance to South Africa because the DCS is uniquely positioned, in terms of legal authority and commitment, to continue and expand HIV/AIDS prevention, care and support services to the prisoners and staff in correctional centers in South Africa.

C. Funding

Approximately $1,000,000 is available in FY 2005 to fund this award. It is expected that the award will begin on or before August 31, 2005, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For program technical assistance, contact: Dr. Melanie Duckworth, Project Officer, U.S. Embassy, 877 Pretorius Street, Acadia, Pretoria 0001, South Africa, Telephone: 011 27 12 346 0170, E-mail: duckworthm@sacdc.co.za.

For financial, grants management, or budget assistance, contact: Shirley Wynn, Grants Management Specialist, CDC Procurement and Grants Office, 2920 Brandywine Road, MS E-09, Atlanta, GA 30341, Telephone: 770-488-1515, E-mail: zbx6@cdc.gov.

Alan A. Kotch,
Deputy Director, Procurement and Grants Office, Centers for Disease Control and Prevention.

[FR Doc. 05-15714 Filed 8-8-05; 8:45 am]

BILLING CODE 4163-18-P